DEPARTMENT OF HOMELAND SECURITY

Coast Guard

33 CFR Part 117

[CGD05-07-089]

RIN 1625-AA-09

Drawbridge Operation Regulations; Potomac River, Between Maryland and Virginia

AGENCY: Coast Guard, DHS.

ACTION: Notice of temporary deviation from regulations.

SUMMARY: The Commander, Fifth Coast Guard District, has approved a temporary deviation from the regulations governing the operation of the new Woodrow Wilson Memorial (I-95) Bridge, mile 103.8, across Potomac River between Alexandria, Virginia and Oxon Hill, Maryland. This deviation allows the new drawbridge to remain closed-to-navigation from 7 a.m. beginning on September 17, 2007 until and including 11:59 p.m. on October 19, 2007, to facilitate completion of concrete pours for the new Woodrow Wilson Bridge construction project.

DATES: This deviation is effective from 7 a.m. on September 17, 2007, until 11:59 p.m. on October 19, 2007.

ADDRESSES: Materials referred to in this document are available for inspection or copying at Commander (dpb), Fifth Coast Guard District, Federal Building, 1st Floor, 431 Crawford Street, Portsmouth, VA 23704-5004 between 8 a.m. and 4 p.m., Monday through Friday, except Federal holidays. The telephone number is (757) 398-6222. Commander (dpb), Fifth Coast Guard District maintains the public docket for this temporary deviation.

FOR FURTHER INFORMATION CONTACT: Waverly W. Gregory, Jr., Bridge Administrator, Fifth Coast Guard District, at (757) 398-6222.

SUPPLEMENTARY INFORMATION: The new Woodrow Wilson (lift) Bridge has a vertical clearance in the closed position to vessels of 75 feet, above mean high water.

Coordinators for the construction of the new Woodrow Wilson Bridge Project has requested a temporary deviation from the current operating regulations set out in 33 CFR part 117.255(a) to close the drawbridge to navigation to facilitate concrete pours at the rear and finger joints of the movable span.

To facilitate the concrete pours, the Woodrow Wilson Bridge will be maintained in the closed-to-navigation position from 7 a.m. on Monday, September 17, 2007 until and including 11:59 p.m. on Friday, October 19, 2007.

In accordance with 33 CFR 117.35(e), the drawbridge must return to its regular operating schedule immediately at the end of the designated time period.

Dated: September 5, 2007.
Waverly W. Gregory, Jr.,
Chief, Bridge Administration Branch, Fifth Coast Guard District.

[FR Doc. E7-18017 Filed 9-11-07; 8:45 am]

BILLING CODE 4910-15-P